DEPARTMENT OF HOMELAND SECURITY

[Docket No. DHS-2016-0005]

National Infrastructure Advisory Council

AGENCY: National Protection and Programs Directorate, DHS.

ACTION: Committee Management; Notice of an Open Federal Advisory Committee Meeting.

SUMMARY: The National Infrastructure Advisory Council will meet Monday, March 14, 2016, at 1310 N. Courthouse Road, Suite 300, the Virginia Conference Room, Arlington, VA 22201. This meeting will be open to the public.

DATES: The National Infrastructure Advisory Council will meet on March 14, 2015 from 1:30 p.m.-3:30 p.m. EST. The meeting may close early if the committee has completed its business. For additional information, please consult the National Infrastructure Advisory Council Web site, www.dhs.gov/NIAC, or contact the National Infrastructure Advisory Council Secretariat by phone at (703) 235-2888 or by email at NIAC@hq.dhs.gov.

ADDRESSES: 1310 N. Courthouse Road, Suite 300, the Virginia Conference Room, Arlington, VA 22201. Members of the public will register at the registration table prior to entering the meeting room. For information on facilities or services for individuals with disabilities, or to request special assistance at the meeting, contact the person listed under FOR FURTHER INFORMATION CONTACT below as soon as possible.

To facilitate public participation, we are inviting public comment on the issues to be considered by the Council as listed in the SUMMARY section below. Comments must be submitted in writing no later than 12:00 p.m. on March 9,2016, in order to be considered by the Council in its meeting. The comments must be identified by “DHS-2016-0005,” and may be submitted by any one of the following methods:

• Federal eRulemaking Portal: www.regulations.gov. Follow the instructions for submitting written comments.

• Email: NIAC@hq.dhs.gov. Include the docket number in the subject line of the message.

• Fax: (703) 235-9707.

• Mail: Ginger Norris, National Protection and Programs Directorate, Department of Homeland Security, 245 Murray Lane SW., Mail Stop 0612, Washington, DC 20598-0607.

Instructions: All written submissions received must include the words “Department of Homeland Security” and the docket number for this action. Written comments received will be posted without alteration at www.regulations.gov, including any personal information provided.

Docket: For access to the docket or to read background documents or comments received by the National Infrastructure Advisory Council, go to www.regulations.gov. Enter “NIAC” in the search line and the Web site will list all relevant documents for your review.

Members of the public will have an opportunity to provide oral comments on the topics on the meeting agenda below, and on any previous studies issued by the National Infrastructure Advisory Council. We request that comments be limited to the issues and studies listed in the meeting agenda and previous National Infrastructure Advisory Council studies. All previous National Infrastructure Advisory Council studies can be located at www.dhs.gov/NIAC. Public comments may be submitted in writing or presented in person for the Council to consider. Comments received by Ginger Norris on or after 1:30 p.m. on March 14, 2015, will still be accepted and reviewed by the members, but not necessarily at the time of the meeting. In-person presentations will be limited to three minutes per speaker, with no more than 15 minutes for all speakers. Parties interested in making in-person comments should register on the Public Comment Registration list available at the entrance to the meeting location prior to the beginning of the meeting.

FOR FURTHER INFORMATION CONTACT: Ginger Norris, National Infrastructure Advisory Council, Alternate Designated Federal Officer, Department of Homeland Security, (703) 235-2888.

SUPPLEMENTARY INFORMATION: Notice of this meeting is given under the Federal Advisory Committee Act, 5 U.S.C. Appendix. The National Infrastructure Advisory Council shall provide the President, through the Secretary of Homeland Security, with advice on the security and resilience of the Nation's critical infrastructure sectors. The NIAC will meet to discuss issues relevant to critical infrastructure security and resilience as directed by the President.

The meeting will commence at 1:30 p.m. EST. At this meeting, the council will discuss its on-going study on Water Resilience. All presentations will be posted prior to the meeting on the Council's public Web page— www.dhs.gov/NIAC.

Public Meeting Agenda

I. Opening of Meeting

II. Roll Call of Members

III. Opening Remarks and Introductions

IV. Approval of Meeting Minutes

V. Status Update on Water Resilience Working Group

VI. Open Discussion and Public Comment

VII. Closing Remarks

Dated: February 19, 2016.
Ginger Norris,
Alternate Designated Federal Officer for the National Infrastructure Advisory Council.

[FR Doc. 2016-03925 Filed 2-24-16; 8:45 am]

BILLING CODE 9110-9B-P